DEPARTMENT OF HOUSING AND URBAN DEVELOPMENT

[Docket No. FR-7039-N-06]

60-Day Notice of Proposed Information Collection: Section 3 Sample Certification Forms

AGENCY: Office of Field Policy and Management, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: October 22, 2021.

ADDRESSES: Interested persons are invited to submit comments regarding this proposal. Comments should refer to the proposal by name and/or OMB Control Number and should be sent to: Anna P. Guido, Reports Management Officer, QDAM, Department of Housing and Urban Development, 451 7th Street SW, Room 4176, Washington, DC 20410-5000; telephone 202-402-5534 (this is not a toll-free number) or email at Anna.P.Guido@hud.gov for a copy of the proposed forms or other available information. Persons with hearing or speech impairments may access this number through TTY by calling the toll-free Federal Relay Service at (800) 877-8339.

FOR FURTHER INFORMATION CONTACT: Anna P. Guido, Reports Management Officer, QDAM, Department of Housing and Urban Development, 451 7th Street SW, Washington, DC 20410; email Anna P. Guido at Anna.P.Guido@hud.gov or telephone 202-402-5535. This is not a toll-free number. Persons with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

A. Overview of Information Collection

Title of Information Collection: Section 3 Sample Certification Forms.

OMB Approval Number: 2501-New.

Type of Request: New.

Form Number: HUD Forms 4736, 4736A, 4736B, 4736C, 4736D.

Description of the need for the information and proposed use: This collection is to reflect changes to the Section 3 regulation, published in the Federal Register 9/29/2020 (https://www.federalregister.gov/documents/2020/09/29/2020-19185/enhancing-and-streamlining-the-implementation-of-section-3-requirements-for-creating-economic). The rule at 24 CFR part 75 is effective November 30th, 2020 and replaces the regulations found at 24 CFR part 135.

24 CFR 75.31 provides a number of options for certification that individuals meet the new definitions in the new final rule:

(1) For a worker to qualify as a Section 3 worker, one of the following must be maintained:

(i) A worker's self-certification that their income is below the income limit from the prior calendar year;

(ii) A worker's self-certification of participation in a means-tested program such as public housing or Section 8-assisted housing;

(iii) Certification from a PHA, or the owner or property manager of project-based Section 8-assisted housing, or the administrator of tenant-based Section 8-assisted housing that the worker is a participant in one of their programs;

(iv) An employer's certification that the worker's income from that employer is below the income limit when based on an employer's calculation of what the worker's wage rate would translate to if annualized on a full-time basis; or

(v) An employer's certification that the worker is employed by a Section 3 business concern.

(2) For a worker to qualify as a Targeted Section 3 worker, one of the following must be maintained:

(i) For a worker to qualify as a Targeted Section 3 worker for public housing financial assistance:

(A) A worker's self-certification of participation in public housing or Section 8-assisted housing programs;

(B) Certification from a PHA, or the owner or property manager of project-based Section 8-assisted housing, or the administrator of tenant-based Section 8-assisted housing that the worker is a participant in one of their programs;

(C) An employer's certification that the worker is employed by a Section 3 business concern; or

(D) A worker's certification that the worker is a YouthBuild participant.

(ii) For a worker to qualify as a Targeted Section 3 worker for a section 3 project (housing and community development financial assistance):

(A) An employer's confirmation that a worker's residence is within one mile of the work site or, if fewer than 5,000 people live within one mile of a work site, within a circle centered on the work site that is sufficient to encompass a population of 5,000 people according to the most recent U.S. Census;

(B) An employer's certification that the worker is employed by a Section 3 business concern; or

(C) A worker's self-certification that the worker is a YouthBuild participant.

These forms are designed to assist grant recipients and contractors with their recordkeeping requirements found in the regulation.

Respondents: HUD recipients of public housing financial assistance, certain HUD recipients of housing and community development financial assistance, certain HUD grantees, public housing residents and other eligible Section 3 workers.

Estimated Number of Respondents:

Information collection | Number of respondents | Frequency of response | Responses per annum | Burden hour per response | Total burden hours | Hourly per response | Annual cost
HUD Form 4736—PH Certification Form | 150 | 1 | 150 | 0.5 | 75 | $49.83 | $3,737.25
HUD Form 4736A—Worker Employer Certification HCD | 500 | 1 | 500 | 0.5 | 250 | 45.80 | 11,450.00
HUD Form 4736B—Employer Certification PHA | 500 | 1 | 500 | 0.5 | 250 | 45.80 | 11,450.00
HUD Form 4736C—Worker Self Certification HCD | 500 | 1 | 500 | 0.5 | 250 | 7.25 | 1,812.50
HUD Form 4736D—Employee Self-Certification PHA | 500 | 1 | 500 | 0.5 | 250 | 7.25 | 1,812.50
Total | 2,150.00 |  | 2,150.00 | 2.5 | 1,075.00 |  | 30,262.25

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses. HUD encourages interested parties to submit comment in response to these questions.

C. Authority

Section 3507 of the Paperwork Reduction Act of 1995, 44 U.S.C. chapter 35.

Krista Mills,
Director, Office of Field Policy and Management.

[FR Doc. 2021-17983 Filed 8-20-21; 8:45 am]

BILLING CODE 4210-67-P